DEPARTMENT OF HEALTH AND HUMAN SERVICES

Administration for Children and Families

[Program Announcement No. OCS 03-01]

Family Violence Prevention and Services Program

AGENCY: Office of Community Services (OCS), Administration for Children and Family (ACF), Department of Health and Human Services (HHS).

ACTION: Notice of the availability of funds to State domestic violence coalitions for grants to carry out family violence intervention and prevention activities.

SUMMARY: This instruction governs the proposed award of fiscal year (FY) 2003 formula grants under the Family Violence Prevention and Services Act (FVPSA) to private non-profit State domestic violence coalitions. The purpose of these grants is to assist in the conduct of activities to promote domestic violence intervention and prevention and to increase public awareness of domestic violence issues.

This instruction sets forth the application requirements, the application process, and other administrative and fiscal requirements for grants in FY 2003.

Closing Dates and Applications

The closing time and date for receipt of applications is 4:30 p.m. (Eastern Time Zone) on May 15, 2003.

Deadline: Mailed applications shall be considered as meeting an announced deadline if they are received on or before the deadline time and date at the Office of Community Services, Administration for Children and Families (ACF), Attention: Catherine L. Beck, 5th Floor-West Wing, 370 L'Enfant Promenade, SW., Washington, DC 20447.

ADDRESSES: Applications should be sent to the Department of Health and Human Services, Office of Community Services, Administration for Children and Families, Attention: Catherine L. Beck, Fifth Floor—West Wing, 370 L'Enfant Promenade, SW., Washington, DC 20447.

FOR FURTHER INFORMATION: William D. Riley (202) 401-5529, Catherine L. Beck (202) 401-9352, Sunni Knight (202) 401-5319, or James Gray (202) 401-5705, Joseph Longergan, Director, Division of Mandatory Grants.

SUPPLEMENTARY INFORMATION:

Confidentiality

Family Violence Prevention and Services Act programs must establish or implement policies and protocols that maintain the safety and confidentiality of adult victims of domestic violence and their dependents. It is essential that the confidentiality of individuals receiving FVPSA services be protected. Thus, when providing statistical data on program services and activities, individual identifiers of client records will not be used (section 303G).

I. Introduction

This notice announcing the availability of grants to State Domestic Violence Coalitions carries out several requirements in the FVPSA.

• The Department must use 10 percent of funds under the FVPSA for grants to State Domestic Violence Coalitions; and

• An application for a State coalition grant must meet the specific requirements in the statute covering eligibility and program activities.

In addition, grantees must meet other requirements, such as annual program and financial reporting and fiscal expenditure period requirements.

This notice provides information on all application requirements.

II. Background

As context for this FY 2003 notice, we wish to emphasize the importance of the work of the State Domestic Violence Coalitions and their activities and efforts leading to improved (more comprehensive and integrated) service delivery systems for victims of domestic violence and their dependents. Reducing domestic violence through coordinated prevention and services strategies is the primary goal of national efforts under the statute.

A. The Importance of Coordination of Services

The impact of domestic violence includes physical and psychological trauma, isolation from family and friends, harm to children witnessing or experiencing violence in homes in which the violence occurs, increased fear, reduced mobility and employability, homelessness, substance abuse, and a host of other health and related mental health consequences.

When programs that seek to address these issues operate independently of each other, a fragmented, and consequently less effective, prevention and service delivery system is the result. Coordination and collaboration among the police, prosecutors, the courts, victim services providers, child welfare and family preservation services, and medical and mental health service providers is needed to provide more responsive and effective services to victims of domestic violence and their families. Faith and community based organizations should be included in the coordination and collaborative efforts. It is essential that all interested parties be involved in the design and improvement of intervention and prevention activities.

The significant correlation between domestic violence, child abuse and the use of welfare by battered women as an “economic escape route” also suggests the need to coordinate domestic violence intervention activities with programs that address child abuse, and the Temporary Assistance for Needy Families (TANF), the Federal welfare program, at the State and local levels.

B. Strengthening Prevention and Intervention Programs

Domestic violence prevention and services programs need to be inclusive in their efforts to address the needs of majority, as well as underserved, populations. Ethnic and rural communities face unique barriers in seeking services. Culture, language, and isolation can limit these populations from seeking assistance or communicating their needs. People with disabilities require special considerations regarding safety planning, transportation, and/or decreasing the risk of future violence.

Crisis intervention is essential in responding to domestic violence. Assessing the victim's safety, assessing the level of risk, and attending to the psychological and physical effects of trauma requires a coordinated effort among counselors, law enforcement, and medical personnel. Once these immediate needs are addressed, there is a need to continue comprehensive efforts throughout intervention, treatment, and future preventive services, for survivors, families, and perpetrators. These collective efforts could include: transitional housing assistance; child care; job skills training; mental health and substance abuse services to survivors and perpetrators; long-term support for survivors; coordination with adult and child protective services; and safe enforcement of child support for TANF and non-TANF families.

Domestic violence prevention programs may also extend to adolescents. The increasing incidence of date rape and violent adolescent relationships indicate the need to provide educational programs and intervention prior to adulthood. Adolescents may have witnessed domestic violence as a child, experienced abuse directly, or themselves been perpetrators of abusive behavior. Studies on the prevention of domestic abuse and violence in interpersonal relationships suggest that youth education may represent an effective community action to reduce the incidence of violence in adolescent relationships.

Perpetrators of domestic violence often have multiple problems that contribute to their battering behavior, such as alcohol or drug abuse, insecurity or extreme jealousy, lack of self discipline or criminal behavior, or severe reactions to stress. Consequently, services for perpetrators may be more effective through coordinated efforts with substance abuse, mental health, and criminal justice programs.

Witnessing violence as a child is an important risk factor for being a victim or perpetrator of violence later in life. Developing innovative strategies for identifying and treating child witnesses is an under-explored potential avenue for preventing violence. Providing home visitation services, integrating children into shelter services with survivors, and providing long-term education and outreach can reduce the potential for these children to domestic violence as adults.

III. State Coalition Grant Requirements

This section provides information and requirements for family violence prevention and services grants for State domestic violence coalitions and is organized as follows:

A. Legislative Authority

B. Background

C. Eligibility

D. Funds Available

E. Expenditure Period

F. Application Requirements

G. Reporting Requirements

H. Paperwork Reduction Act

I. Executive Order 12372

J. Certifications

A. Legislative Authority

Title III of the Child Abuse Amendments of 1984 (Pub. L. 98-457, 42 U. S. C. 10401, et seq.) is entitled the Family Violence Prevention and Services Act (the Act). The Act was first implemented in FY 1986, was reauthorized and amended in 1992 by Pub. L. 102-295, and was amended and reauthorized for fiscal years 1996 through 2000 by Pub. L. 103-322, the Violence Crime Control and Law Enforcement Act of 1994, and by Pub. L. 104-235, the Child Abuse Prevention and Treatment Act Amendment of 1996. The Act was most recently amended by the Victims of Trafficking and Violence Protection Act (Pub. L. 106-386, October 28, 2000).

B. Background

Section 311 of the Act, 42 U.S.C. 10410, requires the Secretary to award grants to statewide private non-profit State domestic violence coalitions to conduct activities to promote domestic violence intervention and prevention.

C. Eligibility

To be eligible for grants under this program announcement, an organization shall be a statewide private non-profit domestic violence coalition meeting the following criteria:

(1) The membership of the coalition includes representatives from a majority of the programs for victims of domestic violence operating within the State (a State domestic violence coalition may include representatives of Indian Tribes and Tribal organizations as defined in the Indian Self-Determination and Education Assistance Act, 25 U.S.C. 450b);

(2) The Board membership of the coalition is representative of such programs;

(3) The purpose of the coalition is to provide services, community education, and technical assistance to domestic violence programs in order to establish and maintain shelter and related services (as defined in the FVPSA) for victims of domestic violence and their children; and,

(4) In the application submitted by the coalition for the grant, the coalition provides assurances satisfactory to the Secretary that the coalition:

(A) has actively sought and encouraged the participation of law enforcement agencies and other legal or judicial entities in the preparation of the application; and

(B) will actively seek and encourage the participation of such entities in the activities carried out with the grant.

D. Funds Available

The Department will make 10 percent of the Family Violence Prevention and Services Act appropriation available for grants to State domestic violence coalitions. One grant each will be available for the State domestic violence coalitions of the 50 states, the Commonwealth of Puerto Rico, and the District of Columbia. The coalitions of the U. S. Territories (Guam, U. S. Virgin Islands, Northern Mariana Islands, American Samoa, and Trust Territory of the Pacific Islands) are also eligible for domestic violence coalition grant awards.

E. Expenditure Period

The FVPSA funds may be used for expenditures obligated on and after October 1 of each fiscal year for which they are granted, and will be available for expenditure through September 30 of the following fiscal year and may be used for obligations incurred from October 1, 2002. Recipients must liquidate all obligations incurred under the award by September 30, 2004.

F. Application Requirements

The State domestic violence coalition application must be signed by the Executive Director of the Coalition or the official designated as responsible for the administration of the grant. The application must contain the following information (consistent with the requirements of the Family Violence Prevention and Services Act):

1. A description of the process and anticipated outcomes of utilizing these Federal funds to work with local domestic violence programs and providers of direct services to encourage appropriate responses to domestic violence within the State, including:

(a) Training and technical assistance for local programs and professionals working with victims of domestic violence;

(b) Planning and conducting State needs assessments and planning for comprehensive services;

(c) Serving as an information clearinghouse and resource center for the State; and

(d) Collaborating with other governmental systems that affect battered women (section 311(a) (1), 42 U.S.C. 10410(a)(1)).

2. A description of the public education campaign regarding domestic violence to be conducted by the coalition through the use of public service announcements and informative materials that are designed for print media, billboards, public transit advertising, electronic broadcast media, and other forms of information dissemination that inform the public about domestic violence, including information aimed at underserved racial, ethnic or language-minority populations (section 311(a)(4), 42 U.S.C. 10410(a)(4)).

3. The anticipated outcomes and a description of planned grant activities to be conducted in conjunction with judicial and law enforcement agencies concerning appropriate responses to domestic violence cases and an examination of issues including:

(a) Inappropriateness of mutual protection orders;

(b) Prohibition of mediation when domestic violence is involved;

(c) Use of mandatory arrests of accused offenders;

(d) Discouragement of dual arrests;

(e) Adoption of aggressive and vertical prosecution policies and procedures;

(f) Use of mandatory requirements for pre-sentence investigations;

(g) Length of time taken to prosecute cases or reach plea agreements;

(h) Use of plea agreements;

(i) Uonsistency of sentencing, including comparisons of domestic violence crimes with other violent crimes;

(j) Restitution to victims;

(k) Use of training and technical assistance to law enforcement and other criminal justice professionals;

(l) Reporting practices of, and the significance to be accorded to, prior convictions (both felony and misdemeanor) and protection orders;

(m) Use of interstate extradition in cases of domestic violence crimes;

(n) The use of statewide and regional planning; and,

(o) Any other matters the State Domestic Violence Coalition believes merits investigation (section 311(a)(2), 42 U.S.C. 10401(a)(2)).

4. The anticipated outcomes and a description of planned grant activities to be conducted in conjunction with family law judges, criminal court judges, child protective services agencies, child welfare agencies, family preservation and support service agencies, and children's advocates to develop appropriate responses to child custody and visitation issues in domestic violence cases and in cases where domestic violence and child abuse are both present, including:

(a) Inappropriate use of mutual protection orders;

(b) Prohibition of mediation when domestic violence is involved;

(c) Inappropriate use of marital or conjoint counseling in domestic violence cases;

(d) Use of training and technical assistance for Family Law Judges, Criminal Court Judges, and court personnel;

(e) The presumption of custody to domestic violence victims;

(f) Use of comprehensive protection orders to grant fullest protection possible to victims of domestic violence, including temporary custody support and maintenance;

(g) Development with Child Protective Services of supportive responses that enable victims to protect their children;

(h) Implementation of supervised visitations or denial of visitation to protect against danger to victims or their children; and

(i) The possibility of permitting domestic violence victims to remove children from the State when the safety of the children or the victim is at risk (section 311(a)(3), 42 U.S.C. 10410(a)(3)).

5. The anticipated outcomes and a description of other activities, including any participation in the National Council Against Domestic Violence; participation in the Violence Against Women Network (VAWANET) and its Web site; and/or collaboration with other national or regional organizations whose purpose is to further domestic violence intervention and prevention.

6. The following documentation will certify the status of the domestic violence coalition and must be included in the grant application:

(a) a description of the procedures developed between the State domestic violence agency and the Statewide coalition that allow for implementation of the following cooperative activities:

(i) the applicant coalition's participation in the planning and monitoring of the distribution of grants and grant funds provided in the State, under section 303(a) of the Act (section 311(a)(5), 42 U.S.C. 10410(a)(5)).

(ii) the participation of the State domestic violence coalition in compliance activities regarding the State's family violence prevention and services program grantees as required by section 303 (3) of the Act. The description should specifically address the coalition's role in planning, monitoring and compliance activities with respect to maintaining client confidentially in accordance with relevant requirements including any requirements under the Health Insurance Probability and Accountability Act of 1996 and section 303 (g) of the Act. (section 303 (g)) requires recipients of FVPSA formula grants to establish or implement policies and protocols for maintaining the safety and confidentiality of the adult victims and their children of domestic violence, sexual assault, and stalking.

(b) A copy of a currently valid 501(c)(3) certification letter from the Internal Revenue Service (IRS) stating private non-profit status; or a copy of the applicant's listing in the IRS' most recent list of tax-exempt organizations described in section 501(c)(3) of the IRS code;

(c) A copy of the articles of incorporation bearing the seal of the State which the corporation or association is domiciled;

(d) A current list of the organizations operating programs for victims of domestic violence programs in the State and the applicant coalition's current membership list by organization;

(e) A list of the applicant coalition's current Board of Directors, with each individual's organizational affiliation, and the Chairperson identified;

(f) A copy of the resume of any coalition or contractual staff to be supported by funds from this grant and/or a statement of requirements for staff or consultants to be hired under this grant; and,

(g) A budget narrative that clearly describes the planned expenditure of funds under this grant.

7. Required Documentation and Assurances are to be included in the application as an appendix:

(a) The applicant coalition must provide documentation in the form of support letters, memoranda of agreement, or jointly signed statements, that the coalition:

(i) Has actively sought and encouraged the participation of law enforcement agencies and other legal or judicial organizations in the preparation of the grant application (section 311(b)(4)(A), 42 U.S.C. 10410(b)(4)(A)); and, (ii) Will actively seek and encourage the participation of such organizations in grant funded activities (section 311(b)(4)(B), 42 U.S.C. 10410 (b)(4)(B)).

(b) The applicant coalition must provide a signed statement that the coalition will not use grant funds, directly or indirectly, to influence the issuance, amendment, or revocation of any executive order or similar legal document by any Federal, State or local agency, or to undertake to influence the passage or defeat of any legislation by the Congress, or any State or local legislative body, or State proposals by initiative petition, except that representatives of the State Domestic Violence Coalition may testify or make other appropriate communications:

(i) When formally requested to do so by a legislative body, a committee, or a member of such organization (section 311 (d)(1), 42 U.S.C. 10410(d)(1)); or,

(ii) In connection with legislation or appropriations directly affecting the activities of the State domestic violence coalition or any member of the coalition (section 311(d)(2), 42 U.S.C. 10410 (d)(2)).

(c) The applicant coalition must provide a signed statement that the State domestic violence coalition will prohibit discrimination on the basis of age, handicap, sex, race, color, and national origin or religion, in accordance with section 307 of the Act, 42 U.S.C. 10406.

G. Reporting Requirements

1. The State domestic violence coalition grantee must submit an annual report of activities describing the coordination, training and technical assistance, needs assessment, and comprehensive planning activities carried out; the public information and education services provided; the activities conducted in conjunction with judicial and law enforcement agencies; the actions conducted in conjunction with other agencies such as the State child welfare agency; and any other activities undertaken under this grant award. The annual report also must provide an assessment of the effectiveness of the grant-supported activities.

The annual report is due 90 days after the end of the fiscal year in which the grant is awarded (December 29). The final program report is due 90 days after the end of the expenditure period (December 29). Program Reports are to be sent to: Office of Community Services, Administration for Children and Families, Attn: William D. Riley, 370 L'Enfant Promenade, SW., 5th Floor West, Washington, DC 20447.

2. The State domestic violence coalition grantees must also submit an annual financial report, Standard Form 269 (SF-269). A financial report is due 90 days after the end of the fiscal year in which the grant is awarded. A final financial report is due 90 days after the end of the expenditure period. Financial reports are to be sent to: Administration for Children and Families, Division of Mandatory Grants, Attention: Joseph Lonergan, 370 L'Enfant Promenade, SW., 4th Floor East, Washington, DC 20447.

H. Paperwork Reduction Act

Under the Paperwork Reduction Act of 1995 (PRA), Public Law 104-13, all Departments are required to submit to the Office of Management and Budget (OMB) for review and approval any reporting of record-keeping requirement inherent in a proposed or final rule, or program announcement. This program announcement contains information collection requirements in sections (F) and (G) of Part III, which require that certain information must be provided in annual reports, fiscal reports, and as part of a grantee's application.

Public reporting burden for this collection of information is estimated to average six hours per response, including the time for reviewing instructions, gathering and maintaining the data needed, and reviewing the collection information.

In accordance with the PRA, the application requirements contained in this notice have been approved by OMB under control number 0970-0062. This project description expires 12/31/2003.

An agency may not conduct or sponsor, and a person is not required to respond to, a collection of information unless it displays a currently valid OMB control number.

I. Executive Order 12372

This program is covered under Executive Order 12372, “Intergovernmental Review of Federal Programs” for State plan consolidation and simplification only—45 CFR 100.12. The review and comment provisions of the Executive Order and part 100 do not apply.

J. Certifications

Applicants must comply with the required certifications found at Attachments A, B, C, and D as follows:

1. The Anti-Lobbying Certification and Disclosure Form must be signed and submitted with the application. If applicable, a Standard Form LLL, which discloses lobbying payments, must be signed and submitted.

2. Certification Regarding Debarment: The signature on the application by a coalition official responsible for the administration of the program attests to the applicant's intent to comply with the Debarment Certification. The Debarment Certification does not have to be returned with the application.

3. Certification Regarding Environmental Tobacco Smoke: The signature on the application by a coalition official certifies that the applicant will comply with the requirements regarding environmental tobacco smoke and services to children under 18 of the Pro-Children Act of 1994. The applicant further agrees that it will require the language of this certification be included in any standards which contain provisions for children's Services and that all grantees shall certify accordingly.

4. Certification Regarding Drug-Free Workplace Requirements: The signature on the application by a coalition official attests to the applicant's intent to comply with the Drug-Free Workplace requirements.

(Catalog of Federal Domestic Assistance Number 93.591, Family Violence Prevention and Services: Grants to State Domestic Violence Coalitions)
Dated: April 8, 2003.
Clarence H. Carter,
Director, Office of Community Services, ACF/DHHS.

List of Attachments

Attachment A—Certification Regarding Lobbying

Attachment B—Certification Regarding Debarment

Attachment C—Certification Regarding Environmental Tobacco Smoke

Attachment D—Certification Regarding Drug-Free Workplace

BILLING CODE 4184-01-P

[FR Doc. 03-9212 Filed 4-14-03; 8:45 am]

BILLING CODE 4184-01-C